SECURITIES AND EXCHANGE COMMISSION

[Release No. 34-102215; File Nos. SR-NYSE-2024-81, SR-NYSEAMER-2024-80, SR-NYSEARCA-2024-113, SR-NYSECHX-2024-37, SR-NYSENAT-2024-33]

Self-Regulatory Organizations; New York Stock Exchange LLC; NYSE American LLC; NYSE Arca, Inc.; NYSE Chicago, Inc.; NYSE National, Inc.; Notice of Withdrawal of Proposed Rule Change To Amend the Connectivity Fee Schedule

January 16, 2025.

On December 17, 2024, New York Stock Exchange LLC, NYSE American LLC, NYSE Arca, Inc., NYSE Chicago, Inc., and NYSE National, Inc. (the “Exchanges”) each filed with the Securities and Exchange Commission (“Commission”), pursuant to Section 19(b)(1) of the Securities Exchange Act of 1934 ¹ and Rule 19b-4 thereunder,² a proposed rule change to amend the connectivity fee schedule to add fees for connectivity from the Mahwah Data Center to one or more trading floors. The proposed rule changes were published for comment in the Federal Register on January 3, 2025.³

¹ 15 U.S.C. 78s(b)(1).

² 17 CFR 240.19b-4.

³ See Securities Exchange Act Release Nos. 102043 (December 27, 2024), 90 FR 351 (SR-NYSE-2024-81); 102042 (December 27, 2024), 90 FR 360 (SR-NYSEAMER-2024-80); 102041 (December 27, 2024), 90 FR 347 (SR-NYSEARCA-2024-113); 102040 (December 27, 2024), 90 FR 356 (SR-NYSECHX-2024-37); 102039 (December 27, 2024), 90 FR 342 (SR-NYSENAT-2024-33).

On December 31, 2024, the Exchanges withdrew the proposed rule changes (SR-NYSE-2024-81, SR-NYSEAMER-2024-80, SR-NYSEARCA-2024-113, SR-NYSECHX-2024-37, SR-NYSENAT-2024-33).

For the Commission, by the Division of Trading and Markets, pursuant to delegated authority.⁴
⁴ 17 CFR 200.30-3(a)(12).
Sherry R. Haywood,
Assistant Secretary.

[FR Doc. 2025-01545 Filed 1-22-25; 8:45 am]

BILLING CODE 8011-01-P